DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Agricultural Prices Surveys. Revision to burden hours will be needed due to the addition and/or deletion of surveys, changes in the size of the target population, sampling design, and/or questionnaire length.

DATES: Comments on this notice must be received by June 26, 2023 to be assured of consideration.

ADDRESSES: You may submit comments, identified by docket number 0535-0003, by any of the following methods:

• Email: ombofficer@nass.usda.gov. Include docket number above in the subject line of the message.

• E-fax: (855) 838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from Richard Hopper, NASS—OMB Clearance Officer, at (202) 690-2388 or at ombofficer@nass.usda.gov.

SUPPLEMENTARY INFORMATION:

Title: Agricultural Prices.

OMB Control Number: 0535-0003.

Expiration Date of Approval: November 30, 2023.

Type of Request: Intent to Seek Approval to Revise and Extend an Information Collection for 3 years.

Abstract: The primary objective of the National Agricultural Statistics Service (NASS) is to prepare and issue State and national estimates of crop and livestock production, prices, and disposition; as well as economic statistics, environmental statistics related to agriculture and to conduct the Census of Agriculture.

The Agricultural Prices surveys provide data on the prices received by farmers and prices paid by them for production goods and services. NASS estimates based on these surveys are used as a Principle Economic Indicator of the United States. These price estimates are also used to compute Parity Prices in accordance with requirements of the Agricultural Adjustment Act of 1938 as amended (Title III, Subtitle A, Section 301(a)). In addition, price data are used by the Federal Crop Insurance Corporation to help determine payment rates, program option levels, and disaster programs.

Changes from the currently approved information collection include:

(1) Addition of the Tobacco Price Inquiry. The Tobacco Price Inquiry is included in the Field Crops Information Collection Request (0535-0002).

(2) Removal of the biennial hay production and sales survey. The data collected on the biennial hay survey was used to weight (by quantity) the monthly hay (alfalfa and other hay) prices to calculate the Marketing Year Average (MYA) and United States hay prices This has been replaced with assuming the % of alfalfa and other hay marketings by month by state hasn't changed from recent surveys.

(3) Addition of collecting hay prices on the Cattle on Feed Survey. The Cattle on Feed questionnaire (OMB No. 0535-0213) has a total burden of 15 minutes on the questionnaire (6 minutes for cattle on feed questions, 9 minutes for hay prices). This survey is conducted monthly and hay price questions are included to prevent separate contacts for both cattle on feed and hay price surveys. Similar methodology is used to collect hay prices on the milk production survey already included in this request.

(4) Changes in the size of the target population, sampling design, number of mailings, and/or questionnaire length.

These combined changes will decrease number of respondents by around 27,025 and burden by around 1,820 responses and 6,415 hours.

Authority: These data will be collected under authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-113) and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

Estimate of Burden: Public reporting burden for this information collection is based on more than 30 individual surveys with expected responses of 5-20 minutes and frequency of 1-12 times per year. Estimated number of responses per respondent is approximately 4.1 times per year.

Respondents: Farmers and farm-related businesses.

Estimated Number of Respondents: 40,000.

Estimated Total Annual Burden on Respondents: 26,000 hours.

Copies of this information collection and related instructions can be obtained without charge from Richard Hopper, NASS Clearance Officer, at (202) 690-2388.

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods. All responses to this notice will become a matter of public record and be summarized in the request for OMB approval.

Signed at Washington, DC, April 11, 2023.
Kevin L. Barnes,
Associate Administrator.

[FR Doc. 2023-08847 Filed 4-26-23; 8:45 am]

BILLING CODE 3410-20-P